DEPARTMENT OF COMMERCE

National Oceanic and Atmospheric Administration

RIN 0648-XA714

Endangered Species; File No. 15634

AGENCY: National Marine Fisheries Service (NMFS), National Oceanic and Atmospheric Administration (NOAA), Commerce.

ACTION: Notice; receipt of application.

SUMMARY: Notice is hereby given that NMFS Southwest Fisheries Science Center (SWFSC), 3333 N. Torrey Pines Ct., La Jolla, CA 92037, [Responsible Party: Lisa Ballance, Ph.D.], has applied in due form for a permit to take leatherback sea turtles (Dermochelys coriacea) for scientific research.

DATES: Written, telefaxed, or e-mail comments must be received on or before October 21, 2011.

ADDRESSES: The application and related documents are available for review by selecting “Records Open for Public Comment” from the Features box on the Applications and Permits for Protected Species (APPS) home page, https://apps.nmfs.noaa.gov, and then selecting File No. 15634 from the list of available applications.

These documents are also available upon written request or by appointment in the following offices:

Permits, Conservation and Education Division, Office of Protected Resources, NMFS, 1315 East-West Highway, Room 13705, Silver Spring, MD 20910; phone (301) 427-8401; fax (301) 713-0376;

Northwest Region, NMFS, 7600 Sand Point Way NE, BIN C15700, Bldg. 1, Seattle, WA 98115-0700; phone (206) 526-6150; fax (206) 526-6426; and

Southwest Region, NMFS, 501 West Ocean Blvd., Suite 4200, Long Beach, CA 90802-4213; phone (562) 980-4001; fax (562) 980-4018.

Written comments on this application should be submitted to the Chief, Permits, Conservation and Education Division

• By e-mail to NMFS.Pr1Comments@noaa.gov (include the File No. in the subject line of the e-mail),

• By facsimile to (301)713-0376, or

• At the address listed above.

Those individuals requesting a public hearing should submit a written request to the Chief, Permits, Conservation and Education Division at the address listed above. The request should set forth the specific reasons why a hearing on this application would be appropriate.

FOR FURTHER INFORMATION CONTACT: Amy Hapeman or Colette Cairns, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The SWFSC proposes to conduct research on leatherback sea turtles to continue long-term monitoring of their status off the coasts of California, Oregon, and Washington. This purpose of the work is to identify critical forage habitats, genetic stock structure, migratory corridors, and potential fishery impacts for leatherbacks. Up to 55 sea turtles would be located annually through aerial surveys and subsequently approached from a research vessel for remote tissue sampling and attachment of a suction-cup transmitter. After tag attachment a subset of the animals would be captured by breakaway hoopnet for additional research procedures before release: measure; weigh; flipper and passive integrated transponder tag; ultrasound; tissue, blood, cloacal swab and fat sample; opportunistically sample feces and stomach contents; photograph/video; insertion of a stomach pill; transmitter attachment via suction-cup and drilling through the medial ridge; and/or oxytetracline injection. The permit would be valid for 5 years from the date of issuance.

Dated: September 16, 2011.
P. Michael Payne,
Chief, Permits, Conservation and ducation Division, Office of Protected Resources, National Marine Fisheries Service.

[FR Doc. 2011-24252 Filed 9-20-11; 8:45 am]

BILLING CODE 3510-22-P